DEPARTMENT OF ENERGY

Federal Energy Regulatory Commission

Combined Notice of Filings

Take notice that the Commission has received the following Natural Gas & Oil Pipeline Rate and Refund Report filings:

Filings Instituting Proceedings

Docket Numbers: RP23-786-000.

Applicants: Northern Natural Gas Company.

Description: § 4(d) Rate Filing: 20230525 Miscellaneous Filing to be effective 6/25/2023.

Filed Date: 5/25/23.

Accession Number: 20230525-5117.

Comment Date: 5 p.m. ET 6/6/23.

Docket Numbers: RP23-787-000.

Applicants: ANR Pipeline Company.

Description: Compliance filing: VXP—Request for Tariff Waiver to be effective N/A.

Filed Date: 5/25/23.

Accession Number: 20230525-5167.

Comment Date: 5 p.m. ET 6/6/23.

Docket Numbers: RP23-788-000.

Applicants: Enable Mississippi River Transmission, LLC.

Description: § 4(d) Rate Filing: Amended NRA—WRB Refining to be effective 6/1/2023.

Filed Date: 5/26/23.

Accession Number: 20230526-5030.

Comment Date: 5 p.m. ET 6/7/23.

Docket Numbers: RP23-789-000.

Applicants: Kinetica Deepwater Express, LLC.

Description: Compliance filing: Petition for Approval of Settlement to be effective 11/1/2023.

Filed Date: 5/26/23.

Accession Number: 20230526-5057.

Comment Date: 5 p.m. ET 6/7/23.

Docket Numbers: RP23-790-000.

Applicants: White River Hub, LLC.

Description: Annual Fuel Gas Reimbursement Report of White River Hub, LLC.

Filed Date: 5/26/23.

Accession Number: 20230526-5075.

Comment Date: 5 p.m. ET 6/7/23.

Docket Numbers: RP23-791-000.

Applicants: Equitrans, L.P.

Description: § 4(d) Rate Filing: Negotiated Rate Agreement—5/27/2023 to be effective 5/27/2023.

Filed Date: 5/26/23.

Accession Number: 20230526-5079.

Comment Date: 5 p.m. ET 6/7/23.

Docket Numbers: RP23-792-000.

Applicants: Rockies Express Pipeline LLC.

Description: Compliance filing: REX 2023-05-26 Annual Penalty Charge Reconciliation to be effective N/A.

Filed Date: 5/26/23.

Accession Number: 20230526-5118.

Comment Date: 5 p.m. ET 6/7/23.

Docket Numbers: RP23-793-000.

Applicants: Tallgrass Interstate Gas Transmission, LLC.

Description: Compliance filing: TIGT 2023-05-26 Annual Penalty Charge Reconciliation to be effective N/A.

Filed Date: 5/26/23.

Accession Number: 20230526-5119.

Comment Date: 5 p.m. ET 6/7/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP23-694-001.

Applicants: Equitrans, L.P.

Description: Compliance filing: FOSA Updates Compliance Filing to be effective 6/1/2023.

Filed Date: 5/26/23.

Accession Number: 20230526-5088.

Comment Date: 5 p.m. ET 6/7/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 26, 2023.
Kimberly D. Bose,
Secretary.

[FR Doc. 2023-11763 Filed 6-1-23; 8:45 am]

BILLING CODE 6717-01-P